FEDERAL COMMUNICATIONS COMMISSION

47 CFR Parts 27 and 90

[WT Docket No. 96-86; FCC 05-09]

Development of Operational, Technical and Spectrum Requirements for Meeting Federal, State and Local Public Safety Communication Requirements Through the Year 2010

AGENCY: Federal Communications Commission.

ACTION: Final rule.

SUMMARY: In this document the Commission takes certain actions intended to conform certain technical rules governing the 764-776 MHz and 794-806 MHz public safety bands (700 MHz Public Safety Band) to industry consensus standards.

DATES: Effective May 27, 2005.

FOR FURTHER INFORMATION CONTACT: Technical Information: Brian Marenco, Brian.Marenco@FCC.gov, Public Safety and Critical Infrastructure Division, Wireless Telecommunications Bureau, (202) 418-0680, or TTY (202) 418-7233. Legal Information: Roberto Mussenden, Esq., Roberto.Mussenden@FCC.gov, Public Safety and Critical Infrastructure Division, Wireless Telecommunications Bureau (202) 418-0680, or TYY (202) 418-7233.

SUPPLEMENTARY INFORMATION: This is summary of the Federal Communications Commission's Sixth Report and Order, FCC 05-9, adopted January 5, 2005 and released on January 7, 2005. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at http://www.fc.gov. Alternative formats are available to persons with disabilities by contacting Brian Millin at (202) 418-7426 or TTY (202) 418-7365 or at Brian.Millin@fcc.gov.

1. In the Sixth Report and Order, the Commission takes the following actions:

• Changes the terminology used in Sections 90.543 and 27.53 of the Commission's rules from Adjacent Channel Coupled Power (ACCP) to Adjacent Channel Power (ACP); and

• Adopts recommended changes to the ACP limits in § 90.543 and 27.53 of the Commission's rules.

I. Procedural Matters

A. Paperwork Reduction Act Analysis

2. The order does not contain any new or modified information collection.

B. Regulatory Flexibility Act

3. A Final Regulatory Flexibility Analysis has been prepared with respect to the Sixth Report and Order and is set forth below.

C. Report to Congress

4. The Commission will send a copy of this Sixth Report and Order in a report to be sent to Congress and the General Accounting Office pursuant to the Congressional Review Act, see 5 U.S.C. 801(a)(1)(A).

D. Supplemental Final Regulatory Flexibility Analysis

5. As required by the Regulatory Flexibility Act (RFA), a Final Regulatory Flexibility Analysis (FRFA) was incorporated in the Fifth Report and Order in WT Docket 96-86. The Commission sought written public comment on the proposals in the Fifth Notice of Proposed Rulemaking.

E. Final Regulatory Flexibility Certification

6. The Regulatory Flexibility Act (RFA) requires that an agency prepare a regulatory flexibility analysis for notice-and-comment rulemaking proceedings, unless the agency certifies that “the rule will not, if promulgated, have a significant economic impact on a substantial number of small entities.” The RFA generally defines “small entity” as having the same meaning as the terms “small business,” “small governmental jurisdiction.” In addition, the term “small business” has the same meaning as the term “small business concern” under the Small Business Act. A “small business concern” is one which: (1) Is independently owned and operated; (2) is not dominant in its field of operation; and (3) satisfies any additional criteria established by the Small Business Administration (SBA).

7. In this Sixth Report and Order, we:

• Revise values in the emission limit tables set forth at 47 CFR 90.543 to ensure technological feasibility;

• Delete the column entitled “Maximum ACCP (dbm)” from the table governing ACCP requirements for mobile transmitter set forth at 47 CFR 90.543 because these values are inconsistent with the Commission's decision not to require mobile transmitters to utilize Automatic Power Control;

• Change the terminology “Adjacent Channel Coupled Power” to “adjacent Channel Power” in our Rules to align our rules with industry standards.

8. These changes, which are intended to ensure that the Commission's rules reflect the latest technical and industry standards, and to correct typographical or ministerial errors in the Commission's Rules, are exclusively of an administrative nature. The changes will not have a significant economic impact on small entities because they are technologically neutral and will affect all entities equally.

9. The Commission therefore certifies, pursuant to the RFA, that the rule changes contained proposals in this Sixth Report and Order will not have a significant economic impact on a substantial number of small entities.

10. The Commission will send a copy of the Final Analysis including a copy of this Final Regulatory Flexibility Certification, to the Chief Counsel for Advocacy of the SBA. This certification will also be published in the Federal Register.

II. Ordering Clauses

11. Pursuant to Sections 4(i), 303(f), 332, 337 and 405 of the Communications Act of 1934, as amended, 47 U.S.C. 154(i), 303(f), 332, 337 and 405 this Sixth Report and Order is hereby adopted.

12. It is further ordered that the amendments of the Commission's Rules as set forth in Rule Changes are adopted May 27, 2005.

13. It is further ordered, that the Commission's Consumer and Governmental Affairs Bureau, Reference Information Center, shall send a copy of this Sixth Report and Order including the Final Regulatory Flexibility Analysis to the Chief Counsel for Advocacy of the Small Business Administration.

List of Subjects in 47 CFR Parts 27 and 90

Communications.

Federal Communications Commission.
Marlene H. Dortch,
Secretary.

Rule Changes

For the reasons discussed in the preamble, 47 CFR parts 27 and 90 are amended as follows:

PART 27—MISCELLANEOUS WIRELESS COMMUNICATIONS SERVICES

1. The authority citation for part 27 continues to read as follows:

Authority: 47 U.S.C. 154, 301, 302, 303, 307, 309, 332, 336, and 337 unless otherwise noted.

2. Paragraphs (d)(1), (2), (3), and (4) of § 27.53 are revised to read as follows:

§ 27.53 Emission limitations.

* * * * *

(d) * * *

(1) The adjacent channel power (ACP) requirements for transmitters designed for various channel sizes are shown in the following tables. Mobile station requirements apply to handheld, car mounted and control station units. The tables specify a value for the ACP as a function of the displacement from the channel center frequency and measurement bandwidth. In the following tables, “(s)” indicates a swept measurement may be used.

6.25 kHz Mobile Transmitter ACP Requirements
Offset from center frequency (kHz) | Measurement bandwidth (kHz) | Maximum ACP (dBc)
6.25 | 6.25 | −40
12.5 | 6.25 | −60
18.75 | 6.25 | −60
25.00 | 6.25 | −65
37.50 | 25.00 | −65
62.50 | 25.00 | −65
87.50 | 25.00 | −65
150.00 | 100.00 | −65
250.00 | 100.00 | −65
350.00 | 100.00 | −65
>400 kHz to 12 MHz | 30(s) | −75
12 MHz to paired receive band | 30(s) | −75
In the paired receive band | 30(s) | −100

12.5 kHz Mobile Transmitter ACP Requirements
Offset from center frequency (kHz) | Measurement bandwidth (kHz) | Maximum ACP (dBc)
9.375 | 6.25 | −40
15.625 | 6.25 | −60
21.875 | 6.25 | −60
37.50 | 25.00 | −60
62.50 | 25.00 | −65
87.50 | 25.00 | −65
150.00 | 100 | −65
250.00 | 100 | −65
350.00 | 100 | −65
>400 to 12 MHz | 30(s) | −75
12 MHz to paired receive band | 30(s) | −75
In the paired receive band | 30(s) | −100

25 kHz Mobile Transmitter ACP Requirements
Offset from center frequency (kHz) | Measurement bandwidth (kHz) | Maximum ACP (dBc)
15.625 | 6.25 | −40
21.875 | 6.25 | −60
37.50 | 25 | −60
62.50 | 25 | −65
87.50 | 25 | −65
150.00 | 100 | −65
250.00 | 100 | −65
350.00 | 100 | −65
>400 kHz to 12 MHz | 30(s) | −75
12 MHz to paired receive band | 30(s) | −75
In the paired receive band | 30(s) | −100

150 kHz Mobile Transmitter ACP Requirements
Offset from center frequency (kHz) | Measurement bandwidth (kHz) | Maximum ACP relative (dBc)
100 | 50 | −40
200 | 50 | −50
300 | 50 | −50
400 | 50 | −50
600-1000 | 30(s) | −60
1000 to receive band | 30(s) | −70
In the receive band | 30(s) | −100

6.25 kHz Base Transmitter ACP Requirements
Offset from center frequency (kHz) | Measurement bandwidth (kHz) | Maximum ACP (dBc)
6.25 | 6.25 | −40
12.50 | 6.25 | −60
18.75 | 6.25 | −60
25.00 | 6.25 | −65
37.50 | 25 | −65
62.50 | 25 | −65
87.50 | 25 | −65
150.00 | 100 | −65
250.00 | 100 | −65
350.00 | 100 | −65
>400 kHz to 12 MHz | 30(s) | −80
12 MHz to paired receive band | 30(s) | −80
In the paired receive band | 30(s) | −100

12.5 kHz Base Transmitter ACP Requirements
Offset from center frequency (kHz) | Measurement bandwidth (kHz) | Maximum ACP (dBc)
9.375 | 6.25 | −40
15.625 | 6.25 | −60
21.875 | 6.25 | −60
37.5 | 25 | −60
62.5 | 25 | −65
87.5 | 25 | −65
150 | 100 | −65
250 | 100 | −65
350.00 | 100 | −65
>400 kHz to 12 MHz | 30(s) | −80
12 MHz to paired receive band | 30(s) | −80
In the paired receive band | 30(s) | −100

25 kHz Base Transmitter ACP Requirements
Offset from center frequency (kHz) | Measurement bandwidth (kHz) | Maximum ACP (dBc)
15.625 | 6.25 | −40
21.875 | 6.25 | −60
37.5 | 25 | −60
62.5 | 25 | −65
87.5 | 25 | −65
150 | 100 | −65
250 | 100 | −65
350 | 100.00 | −65
>400 kHz to 12 MHz | 30(s) | −80
12 MHz to paired receive band | 30(s) | −80
In the paired receive band | 30(s) | −100

150 kHz Base Transmitter ACP Requirements
Offset from center frequency (kHz) | Measurement bandwidth (kHz) | Maximum ACP (dBc)
100 | 50 | −40
200 | 50 | −50
300 | 50 | −55
400 | 50 | −60
600-1000 | 30(s) | −65
1000 to receive band | 30(s) | −75 (continues at −6dB/oct
In the receive band | 30(s) | −100

(2) ACP measurement procedure. The following procedures are to be followed for making ACP transmitter measurements. For time division multiple access (TDMA) systems, the measurements are to be made under TDMA operation only during time slots when the transmitter is on. All measurements must be made at the input to the transmitter's antenna. Measurement bandwidth used below implies an instrument that measures the power in many narrow bandwidths (e.g., 300 Hz) and integrates these powers across a larger band to determine power in the measurement bandwidth.

(i) Setting reference level. Using a spectrum analyzer capable of ACP measurements, set the measurement bandwidth to the channel size. For example, for a 6.25 kHz transmitter, set the measurement bandwidth to 6.25 kHz; for a 150 kHz transmitter, set the measurement bandwidth to 150 kHz. Set the frequency offset of the measurement bandwidth to zero and adjust the center frequency of the spectrum analyzer to give the power level in the measurement bandwidth. Record this power level in dBm as the “reference power level”.

(ii) Non-swept power measurement. Using a spectrum analyzer capable of ACP measurements, set the measurement bandwidth as shown in the tables above. Measure the ACP in dBm. These measurements should be made at maximum power. Calculate the coupled power by subtracting the measurements made in this step from the reference power measured in the previous step. The absolute ACP values must be less than the values given in the table for each condition above.

(iii) Swept power measurement. Set a spectrum analyzer to 30 kHz resolution bandwidth, 1 MHz video bandwidth and sample mode detection. Sweep ± MHz from the carrier frequency. Set the reference level to the RMS value of the transmitter power and note the absolute power. The response at frequencies greater than 600 kHz must be less than the values in the tables above.

(3) Out-of-band emission limit. On any frequency outside of the frequency ranges covered by the ACP tables in this section, the power of any emission must be reduced below the unmodulated carrier power (P) by at least 43 + 10 log (P) dB.

(4) Authorized bandwidth. Provided that the ACP requirements of this section are met, applicants may request any authorized bandwidth that does not exceed the channel size.

* * * * *

PART 90—PRIVATE LAND MOBILE RADIO SERVICES

3. The authority citation for part 90 continues to read as follows:

Authority: Sections 4(i), 11, 303(g), 303(r), and 302(c)(7) of the Communications Act of 1934, as amended, 47 U.S.C. 154(i), 161, 303(g), 303(r), 332(c)(7).

4. Section 90.543 is revised to read as follows:

§ 90.543 Emission limitations.

Transmitters designed to operate in 764 776 MHz and 794 806 MHz frequency bands must meet the emission limitations in this section.

(a) The adjacent channel power (ACP) requirements for transmitters designed for various channel sizes are shown in the following tables. Mobile station requirements apply to handheld, car mounted and control station units. The tables specify a value for the ACP as a function of the displacement from the channel center frequency and measurement bandwidth. In the following tables, “(s)” indicates a swept measurement may be used.

6.25 kHz Mobile Transmitter ACP Requirements
Offset from center frequency (kHz) | Measurement bandwidth (kHz) | Maximum ACP relative (dBc)
6.25 | 6.25 | −40
12.5 | 6.25 | −60
18.75 | 6.25 | −60
25.00 | 6.25 | −65
37.50 | 25.00 | −65
62.50 | 25.00 | −65
87.50 | 25.00 | −65
150.00 | 100.00 | −65
250.00 | 100.00 | −65
350.00 | 100.00 | −65
>400 kHz to 12 MHz | 30 (s) | −75
12 MHz to paired receive band | 30 (s) | −75
In the paired receive band | 30 (s) | −100

12.5 kHz Mobile Transmitter ACP Requirements
Offset from center frequency (kHz) | Measurement bandwidth (kHz) | Maximum ACP relative (dBc)
9.375 | 6.25 | −40
15.625 | 6.25 | −60
21.875 | 6.25 | −60
37.50 | 25.00 | −60
62.50 | 25.00 | −65
87.50 | 25.00 | −65
150.00 | 100 | −65
250.00 | 100 | −65
350.00 | 100 | −65
>400 to 12 MHz | 30 (s) | −75
12 MHz to paired receive band | 30 (s) | −75
In the paired receive band | 30 (s) | −100

25 kHz Mobile Transmitter ACP Requirements
Offset from center frequency (kHz) | Measurement bandwidth (kHz) | Maximum ACP relative (dBc)
15.625 | 6.25 | −40
21.875 | 6.25 | −60
37.50 | 25 | −60
62.50 | 25 | −65
87.50 | 25 | −65
150.00 | 100 | −65
250.00 | 100 | −65
350.00 | 100 | −65
>400 kHz to 12 MHz | 30 (s) | −75
12 MHz to paired receive band | 30 (s) | −75
In the paired receive band | 30 (s) | −100

150 kHz Mobile Transmitter ACP Requirements
Offset from center frequency (kHz) | Measurement bandwidth (kHz) | Maximum ACP (dBc)
100 | 50 | −40
200 | 50 | −50
300 | 50 | −50
400 | 50 | −50
600-1000 | 30 (s) | −60
1000 to receive band | 30 (s) | −70
In the receive band | 30 (s) | −100

6.25 kHz Base Transmitter ACP Requirements
Offset from center frequency (kHz) | Measurement bandwidth (kHz) | Maximum ACP (dBc)
6.25 | 6.25 | −40
12.50 | 6.25 | −60
18.75 | 6.25 | −60
25.00 | 6.25 | −65
37.50 | 25 | −65
62.50 | 25 | −65
87.50 | 25 | −65
150.00 | 100 | −65
250.00 | 100 | −65
350.00 | 100 | −65
>400 to 12 MHz | 30 (s) | −80
12 MHz to paired receive band | 30 (s) | −80
In the paired receive band | 30 (s) | −100

12.5 kHz Base Transmitter ACP Requirements
Offset from center frequency (kHz) | Measurement bandwidth (kHz) | Maximum ACP (dBc)
9.375 | 6.25 | −40
15.625 | 6.25 | −60
21.875 | 6.25 | −60
37.5 | 25 | −60
62.5 | 25 | −65
87.5 | 25 | −65
150 | 100 | −65
250 | 100 | −65
350.00 | 100 | −65
>400 kHz to 12 MHz | 30 (s) | −80
12 MHz to paired receive band | 30 (s) | −80
In the paired receive band | 30 (s) | −100

25 kHz Base Transmitter ACP Requirements
Offset from center frequency (kHz) | Measurement bandwidth (kHz) | Maximum ACP (dBc)
15.625 | 6.25 | −40
21.875 | 6.25 | −60
37.5 | 25 | −60
62.5 | 25 | −65
87.5 | 25 | −65
150 | 100 | −65
250 | 100 | −65
350 | 100.00 | −65
>400 kHz to 12 MHz | 30 (s) | −80
12 MHz to paired receive band | 30 (s) | −80
In the paired receive band | 30 (s) | −100

150 kHz Base Transmitter ACP Requirements
Offset from center frequency (kHz) | Measurement bandwidth (kHz) | Maximum ACP (dBc)
100 | 50 | −40
200 | 50 | −50
300 | 50 | −55
400 | 50 | −60
600-1000 | 30 (s) | −65
1000 to receive band | 30 (s) | −75 (continues at 6dB/oct)
In the receive band | 30 (s) | −100

(b) ACP measurement procedure. The following are the procedures for making the transmitter ACP measurements. For all measurements modulate the transmitter as it would be modulated in normal operating conditions. For time division multiple access (TDMA) systems, the measurements are to be made under TDMA operation only during time slots when the transmitter is active. All measurements are made at the transmitter's output port. If a transmitter has an integral antenna, a suitable power coupling device shall be used to couple the RF signal to the measurement instrument. The coupling device shall substantially maintain the proper transmitter load impedance. The ACP measurements may be made with a spectrum analyzer capable of making direct ACP measurements. “Measurement bandwidth”, as used for non-swept measurements, implies an instrument that measures the power in many narrow bandwidths equal to the nominal resolution bandwidth and integrates these powers to determine the total power in the specified measurement bandwidth.

(1) Setting reference level. Set transmitter to maximum output power. Using a spectrum analyzer capable of ACP measurements, set the measurement bandwidth to the channel size. For example, for a 6.25 kHz transmitter, set the measurement bandwidth to 6.25 kHz; for a 150 kHz transmitter, set the measurement bandwidth to 150 kHz. Set the frequency offset of the measurement bandwidth to zero and adjust the center frequency of the instrument to the assigned center frequency to measure the average power level of the transmitter. Record this power level in dBm as the “reference power level”.

(2) Non-swept power measurement. Using a spectrum analyzer capable of ACP measurements, set the mesurement bandwidth and frequency offset from the assigned center frequency as shown in the tables in § 90.543 (a) above. Any value of resolution bandwidth may be used as long as it does not exceed 2 percent of the specified measurement bandwidth. Measure the power level in dBm. These measurements should be made at maximum power. Calculate ACP by substracting the reference power level measured in (b)(1) from the measurements made in this step. The absolute value of the calculated ACP must be greater than or equal to the absolute value of the ACP given in the table for each condition above.

(3) Swept power measurement. Set a spectrum analyzer to 30 kHz resolution bandwidth, 1 MHz video bandwidth and average, sample, or RMS detection. Set the reference level of the spectrum analyzer to the RMS value of the transmitter power. Sweep above and below the carrier frequency to the limits defined in the tables. Calculate ACP by substracting the reference power level measured in (b)(1) from the measurements made in this step. The absolute value of the calculated ACP must be greater than or equal to the absolute value of the ACP given in the table for each condition above.

(c) Out-of-band emission limit. On any frequency outside of the frequency ranges covered by the ACP tables in this section, the power of any emission must be reduced below the mean output power (P) by at least 43 + 10log (P) dB measured in a 100 kHz bandwidth for frequencies less than 1 GHz, and in a 1 MHz bandwidth for frequencies greater than 1 GHz.

(d) Authorized bandwidth. Provided that the ACP requirements of this section are met, applicants may request any authorized bandwidth that does not exceed the channel size.

(e) For operations in the 764 to 776 MHz and 794 to 806 MHz bands, all emissions including harmonics in the band 1559-1610 MHz shall be limited to −70 dBW/MHz equivalent isotropically radiated power (EIRP) for wideband signals, and −80 dBW EIRP for discrete emissions of less than 700 Hz bandwidth. For the purpose of equipment authorization, a transmitter shall be tested with an antenna that is representative of the type that will be used with the equipment in normal operation.

(f) When an emission outside of the authorized bandwidth causes harmful interference, the Commission may, at its discretion, require greater attenuation than specified in this section.

[FR Doc. 05-8205 Filed 4-26-05; 8:45 am]

BILLING CODE 6712-01-M